DEPARTMENT OF AGRICULTURE

Cooperative State Research, Education, and Extension Service

Notice of Solicitation for Membership to the Forestry Research Advisory Council

AGENCY: Cooperative State Research, Education, and Extension Service, USDA.

ACTION: Notice of solicitation for membership.

SUMMARY: In accordance with the Federal Advisory Committee Act (5 U.S.C. app), the United States Department of Agriculture (USDA) announces solicitation for nominations to fill twelve vacancies on the Forestry Research Advisory Council. The Council membership is appointed with staggered terms of one, two, and three years. Nominations for a three-year appointment for all twelve positions are sought.

DATES: Nominations must be received on or before October 10, 2008.

ADDRESSES: The nominee's name, resume, and completed Form AD-755 must be sent to the Office of the Forestry Research Advisory Council; Cooperative State Research, Education, and Extension Service; U.S. Department of Agriculture; Room 3213 Waterfront Center; 800 9th Street, SW., Washington, DC 20024 for express mail or overnight courier service. Nominations sent via the U.S. Postal Service must be sent to the following address: Cooperative State Research, Education, and Extension Service; U.S. Department of Agriculture; Office of the Forestry Research Advisory Council; Mail Stop 2210; 1400 Independence Avenue, SW., Washington, DC 20250-2210.

FOR FURTHER INFORMATION CONTACT: Catalino A. Blanche, Designated Federal Officer, Forestry Research Advisory Council; Office of the Forestry Research Advisory Council; telephone: (202) 401-4190; fax: (202) 401-1706; e-mail: cblanche@csrees.usda.gov, or contact Daina D. Apple, Senior Staff Assistant, Research and Development, Forest Service, U.S. Department of Agriculture; telephone: (202) 205-1452; fax: (202) 205-1530; e-mail: dapple@fs.fed.us.

SUPPLEMENTARY INFORMATION: The Forestry Research Advisory Council was established to provide advice to the Secretary of Agriculture on efficiently accomplishing the purposes of the McIntire-Stennis Act of 1962 (16 U.S.C. 582a, et seq.). The Council also provides advice related to the Forest Service research program, authorized by the Forest and Rangeland Resources Research Act of 1978 (Pub. L. 95-307, 92 Stat. 353, as amended, 16 U.S.C. 1600 (note)). The Council is composed of 20 voting members from the following membership categories:

• Federal and State agencies concerned with developing and utilizing the Nation's forest resources which includes the National Forest System and Forest and Range Experiment Stations leaders, Forest Service;

• The forest industries;

• The forestry schools of the State certified eligible institutions and State agricultural experiment stations; and

• Volunteer public groups concerned with forests and related natural resources.

Nominees will be carefully reviewed for their broad expertise, leadership, and relevancy to a membership category. Nominations for one individual who fits several of the categories or for more than one person who fits one category will be accepted. Please indicate the specific membership category for each nominee.

Each nominee must complete Form AD-755, Advisory Committee Membership Background Information (which can be obtained from the contact persons above or from the following Web site: http://www.ree.usda.gov/nareeeab/downloads/forms/AD-755.pdf). All nominations will be vetted before selection. Appointments to the Forestry Research Advisory Council will be made by the Secretary of Agriculture. Applicants are strongly encouraged to submit nominations via overnight mail or delivery service to ensure timely receipt by the USDA.

Done at Washington, DC, this 25th day of August 2008.
Gale Buchanan,
Under Secretary, Research, Education, and Economics.

[FR Doc. E8-20317 Filed 9-2-08; 8:45 am]

BILLING CODE 3410-22-P